DEPARTMENT OF HOMELAND SECURITY

Departmental Advisory Committee on Commercial Operations of the Bureau of Customs and Border Protection (“COAC”)

AGENCY: Department of Homeland Security.

ACTION: Notice of meeting.

SUMMARY: This notice announces the date, time, and location for the first meeting of the ninth term of the Departmental Advisory Committee on Commercial Operations of the Bureau of Customs and Border Protection (COAC), and the expected agenda for its consideration.

DATES: The next meeting of the COAC will be held on Friday, February 6, 2004 at 9:30 a.m. to 1 p.m. in the Polaris Room of the Ronald Reagan Building, located at 1300 Pennsylvania, NW., Washington, DC 20229. The duration of the meeting will be approximately four hours.

FOR FURTHER INFORMATION CONTACT: Vetta Jeffries, Department of Homeland Security, 202-282-8468.

SUPPLEMENTARY INFORMATION: This meeting is open to the public. However, participation in COAC deliberations is limited to COAC members, Homeland Security and Treasury Department officials, and persons invited to attend the meeting for special presentations. All persons entering the building must be cleared by building security at least 72 hours in advance of the meeting. Personal data to obtain this clearance must be submitted to Vetta Jeffries, 202-282-8468, no later than 2 p.m. EST on February 5, 2004.

Agenda

The COAC is expected to pursue the following agenda, which may be modified prior to the meeting:

(1) Department of Homeland Security Reorganization.

(2) Customs and Border Patrol Officer.

(3) Food and Drug Administration Bio Terrorism Act.

(4) Advance Cargo Manifest Information.

(5) Free and Secure Trade (FAST).

(6) Customs-Trade Partnership Against Terrorism (C-TPAT) and Container Security Initiative (CSI) Human Capital Plan.

(7) Focused Assessment/Importer Self-Assessment Program.

(8) World Customs Organization Task Force on Global Security Standards.

(9) Customs Brokers Examination.

(10) Automated Commercial System Maintenance.

Dated: January 28, 2004.
C. Stewart Verdery,
Assistant Secretary for Border and Transportation Security Policy and Planning.

[FR Doc. 04-2120 Filed 1-29-04; 1:41 pm]

BILLING CODE 4410-10-P